DEPARTMENT OF COMMERCE

National Oceanic and Atmospheric Administration

50 CFR Part 635

[I.D. 092001A]

Atlantic Highly Migratory Species; Atlantic Bluefin Tuna Fisheries

AGENCY: National Marine Fisheries Service (NMFS), National Oceanic and Atmospheric Administration (NOAA), Commerce.

ACTION: General category daily retention limit adjustment; Harpoon category reopening; Quota transfer.

SUMMARY: NMFS has determined that the Atlantic bluefin tuna (BFT) General category daily catch limit should be adjusted to two large medium or giant BFT per vessel. NMFS has also determined that the BFT General category restricted fishing day (RFD) schedule should be adjusted; i.e., certain RFDs should be waived in order to allow for maximum utilization of the General category subquota for the October-December fishing period. Therefore, NMFS increases the daily retention limit from zero to two large medium or giant BFT on the RFDs previously designated for October 1 and 3, 2001, and from one to two large medium or giant BFT for all other fishing days through October 31, 2001. NMFS has also determined that the adjusted BFT Harpoon category quota has not been fully attained. Therefore, NMFS reopens the Harpoon category until the adjusted quota is reached. Additionally, NMFS has determined that a quota transfer to the Harpoon category from the Reserve is warranted, and therefore transfers 20 metric tons (mt) from the Reserve to the Harpoon category for the remainder of the 2001 fishing year.

DATES: The Harpoon category reopening and quota transfer are effective September 21, 2001, through May 31, 2002. The General category catch limit adjustments are effective September 24, 2001, through October 31, 2001.

FOR FURTHER INFORMATION CONTACT: Pat Scida or Brad McHale, 978-281-9260.

SUPPLEMENTARY INFORMATION: Regulations implemented under the authority of the Atlantic Tunas Convention Act (16 U.S.C. 971 et seq.) and the Magnuson-Stevens Fishery Conservation and Management Act (Magnuson-Stevens Act; 16 U.S.C. 1801 et seq.) governing the harvest of BFT by persons and vessels subject to U.S. jurisdiction are found at 50 CFR part 635. Section 635.27 subdivides the U.S. BFT quota recommended by the International Commission for the Conservation of Atlantic Tunas among the various domestic fishing categories, and General category effort controls (including time-period subquotas and RFDs) are specified annually under 50 CFR 635.23(a) and 635.27(a). The 2001 General category effort controls were effective on July 13, 2001 (66 FR 37421, July 18, 2001).

Adjustment of Daily Retention Limits

Under § 635.23 (a)(4), NMFS may increase or decrease the daily retention limit of large medium and giant BFT over a range from zero (on RFDs) to a maximum of three per vessel to allow for maximum utilization of the quota for BFT. Based on a review of dealer reports, daily landing trends, and the availability of BFT on the fishing grounds, NMFS has determined that an increase of the daily retention limit for the remainder of September through October 31, 2001 is appropriate. Therefore, NMFS adjusts the daily retention limit to two large medium or giant BFT per vessel from September 24, 2001, through October 31, 2001. Also under 50 CFR 635.23(a)(4), NMFS has determined that adjustment to the RFD schedule, and, therefore, an increase of the daily retention limit for certain previously designated RFDs, is necessary. Therefore, NMFS adjusts the daily retention limit for October 1 and 3, 2001, from zero to two large medium or giant BFT per vessel.

The intent of these adjustments is to allow for maximum utilization of the General category subquotas for the September and October-December fishing periods (specified under 50 CFR 635.27(a)) by General category participants in order to achieve optimum yield in the General category fishery, to collect a broad range of data for stock monitoring purposes, and to be consistent with the objectives of the HMS FMP.

Reopening of the Harpoon Category

The final initial 2001 BFT quota specifications issued pursuant to 50 CFR 635.27 set a quota of 55 mt of large medium and giant BFT to be harvested from the regulatory area by vessels permitted in the Harpoon category during the 2001 fishing year (66 FR 37421, July 18, 2001). The Harpoon category quota was adjusted on August 29, 2001, when 15 mt were transferred from the Reserve to the Harpoon category for an adjusted Harpoon category quota of 70 mt (66 FR 46400, September 5, 2001). Based on reported landings and effort, NMFS projected that this quota would be reached by September 16, 2001. Therefore, fishing for, retaining, possessing, or landing large medium or giant BFT by vessels in the Harpoon category ceased at 11:30 p.m. local time, Sunday, September 16, 2001 (66 FR 48221, September 19, 2001). Upon review of actual landings reports as of September 19, 2001, NMFS has determined that Harpoon category landings totaled approximately 68 mt. Therefore, NMFS is reopening the Harpoon category effective September 21, 2001, through May 31, 2002.

Quota Transfer

Under the implementing regulations at 50 CFR 635.27 (a)(7), NMFS has the authority to allocate any portion of the Reserve to any category quota in the fishery, other than the Angling category school BFT subquota (for which there is a separate reserve), after considering the following factors: (1) The usefulness of information obtained from catches in the particular category for biological sampling and monitoring of the status of the stock; (2) the catches of the particular category quota to date and the likelihood of closure of that segment of the fishery if no allocation is made; (3) the projected ability of the vessels fishing under the particular category quota to harvest the additional amount of BFT before the end of the fishing year; (4) the estimated amounts by which quotas established for other gear segments of the fishery might be exceeded; (5) effects of the transfer on BFT rebuilding and overfishing; and (6) effects of the transfer on accomplishing the objectives of the HMS FMP.

Annual BFT quota specifications issued under 50 CFR 635.27 provide for a quota of 55 mt of large medium and giant BFT to be harvested from the regulatory area by vessels fishing under the Harpoon category quota during the 2001 fishing year. The Harpoon category quota was adjusted on August 29, 2001, when 15 mt were transferred from the Reserve to the Harpoon category for an adjusted Harpoon category quota of 70 mt (66 FR 46400, September 5, 2001).

After considering the reopening of the Harpoon category fishery and the criteria for making transfers between categories and from the Reserve, NMFS has determined that 20 mt of the remaining 26.9 mt of Reserve should be transferred to the Harpoon category. Thus, the adjusted annual quota for the Harpoon category is 90 mt for the 2001 fishing year.

Once the adjusted Harpoon category quota has been attained, the Harpoon category will be closed. Announcement of the closure will be filed with the Office of the Federal Register, stating the effective date of closure and further communicated through the Highly Migratory Species Fax Network, the Atlantic Tunas Information Line, NOAA weather radio, and Coast Guard Notice to Mariners. Although notification of closure will be provided as far in advance as possible, fishermen are encouraged to call the Atlantic Tunas Information Line at (888) USA-TUNA or (978) 281-9305, to check the status of the fishery before leaving for a fishing trip.

Classification

This action is taken under 50 CFR 635.23(a)(4) and is exempt from review under Executive Order 12866.

Authority: 16 U.S.C. 971 et seq. and 1801 et seq.

Dated: September 21, 2001.
Bruce C. Morehead,
Acting Director, Office of Sustainable Fisheries, National Marine Fisheries Service.

[FR Doc. 01-24123 Filed 9-21-01; 4:23 pm]

BILLING CODE 3510-22-S